DEPARTMENT OF TRANSPORTATION

Federal Highway Administration

[Docket No. 0005]

Agency Information Collection Activities: Notice of Request for Renewal of Currently Approved Information Collection

AGENCY: Federal Highway Administration (FHWA), DOT.

ACTION: Notice of request for comments for renewal of currently approved information collection.

SUMMARY: The FHWA invites public comments about our intention to request the Office of Management and Budget's (OMB) approval to submit one information collection, which is summarized below under Supplementary Information. We are required to publish this notice in the Federal Register by the Paperwork Reduction Act of 1995.

DATES: Please submit comments by July 14, 2025.

ADDRESSES: You may submit comments identified by Docket ID 0005 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Thy H. Nguyen, (202) 875-0520, Department of Transportation, Office of the Assistant Secretary for Research and Technology (OST-R), 1200 New Jersey Avenue SE, Washington, DC 20590. Office hours are from 7 a.m. to 4:30 p.m., Monday through Friday, except Federal holidays.

SUPPLEMENTARY INFORMATION:

Title: Strengthening Mobility and Revolutionizing Transportation (SMART) Grant Program.

OMB Control Number: 2125-0667.

Summary: The Bipartisan Infrastructure Law (BIL, also known as the Infrastructure Investment and Jobs Act), enacted on November 15, 2021 provides for significant investments in America's transportation infrastructure. A key program of the legislation is the Strengthening and Revolutionizing Transportation (SMART) Grant Program ($100 million per year), under which “the Secretary shall provide grants to eligible entities to conduct demonstration projects focused on advanced smart city or community technologies and systems in a variety of communities to improve transportation efficiency and safety” (BIL § 25005; 23 U.S.C. 502(b)). More specifically, SMART Grants may be used to carry out a project that demonstrates at least one of the following:

• Coordinated Automation

• Connected Vehicles

• Systems Integration

• Commerce Delivery and Logistics

• Leveraging Use of Innovative Aviation Technology

• Smart Grid

• Smart Technology Traffic Signals

U.S. DOT anticipates that this notice and any subsequent notice for this SMART grant program will be to applications for Stage Two Strengthening Mobility and Revolutionizing Transportation (SMART) grants. Stage Two SMART Grants are to be awarded on a competitive basis to existing Stage One SMART grant recipients in order to implement the plans and prototypes previously developed in Stage One that will advance smart city or community technologies and systems to improve transportation efficiency and safety.

Only recipients of SMART Stage One Planning and Prototyping Grants, or eligible entities designated by Stage One SMART recipients, awarded under previous SMART Stage One NOFOs, may apply for Stage Two Implementation Grant NOFOs.

For this competitive grant program, the Office of the Secretary will issue a Notice of Funding Opportunity (NOFO) that describes the requirements of the SMART Grant program, including the criteria that will be used to evaluate applications. The NOFO will provide a description of the application requirements. All eligible entities must submit a completed application in order to be considered for a grant award.

The applicants who are selected for a grant (i.e., the grantees) will have additional reporting requirements associated with their SMART grant, outlined below.

• Annual Implementation Reports. These annual reports document project progress in meeting its goals.

The first report is submitted not later than 2 years after the date on which the SMART grant is received and annually thereafter until the date on which the SMART grant is expended.

○ The Final Implementation Report will demonstrate how the deployment and operational costs of the project compared to the benefits and savings; the means by which each project has met its original expectation, including data findings on the impacts of the project (e.g., safety, mobility, access, system efficiency, etc.) and lessons learned.

• Evaluation Plan. The evaluation plan describes how the project will be evaluated, including the anticipated impacts of the project (e.g., goals), the methods that will be used to measure those impacts, and the performance measures.

• Data Management Plan. The data management plan provides more detailed information on the types of data being collected by the grantee and how that data will be managed and stored (e.g., how privacy is protected, the entities that have access to the data, etc.).

• Quarterly Progress Reports. The Quarterly progress reports provide status updates, including activities accomplished during the quarter, financial and schedule reporting, and anticipated activities for the next quarter (among other updates, such as any project challenges).

Respondents: Only recipients of SMART Stage One Planning and Prototyping Grants, or eligible entities designated by Stage One SMART recipients, awarded under previous SMART Stage One NOFOs, may apply for Stage Two Implementation Grant NOFOs.

Eligible entities that may apply for the grant if they have previously been awarded a Stage One Grant include: (A) a State; (B) a political subdivision of a State; (C) a Tribal government; (D) a public transit agency or authority; (E) a public toll authority; (F) a metropolitan planning organization; and (G) a group of 2 or more eligible entities (A through F) applying through a single lead applicant.

We anticipate up to 100 applicants per Stage 1 NOFO, and approximately 30 will be awarded.

We anticipate up to 80 applicants per Stage 2 NOFO, and approximately 12 will be awarded.

Estimated Average Burden per Response: The estimated reporting burden per response is 100 hours for each entity that submits an application. For the subset of applicants who are selected to receive a grant, they have an additional estimated 79 hours of average annual burden associated with the grant award.

Estimated Total Annual Burden: The estimated total annual burden is up to 12033 hours, which consists of 5333 hours for 80 Stage 1 applications, and 6700 hours for 100 Stage 2 applications. The subset of applicants who receive an award, approximately 30 Stage 1 and 12 Stage 2 per year, will have an additional total average annual burden of 3967.5 hours and 1,587 hours, respectively.

Public Comments Invited

You are asked to comment on any aspect of these information collections, including: (1) Whether the proposed collections are necessary for the OST's performance; (2) the accuracy of the estimated burdens; (3) ways for the OST to enhance the quality, usefulness, and clarity of the collected information; and (4) ways that the burdens could be minimized, including use of electronic technology, without reducing the quality of the collected information. The agency will summarize and/or include your comments in the request for OMB's clearance of these information collections.

Authority: The Paperwork Reduction Act of 1995; 44 U.S.C. Ch. 35, as amended; and 49 CFR 1.48.

Issued on: May 7, 2025.
Jazmyne Lewis,
Information Collection Officer.

[FR Doc. 2025-08333 Filed 5-12-25; 8:45 am]

BILLING CODE P